DEPARTMENT OF VETERANS AFFAIRS

Advisory Committee on Women Veterans; Notice of Meeting

The Department of Veterans Affairs (VA) gives notice under Public Law 92-463 (Federal Advisory Committee Act) that the Advisory Committee on Women Veterans will meet October 28-30, 2008 at the Capital Hilton, 16th and K Street, NW., Washington, DC, from 8:30-4:30 p.m., each day. The meeting is open to the public.

The purpose of the Committee is to advise the Secretary of Veterans Affairs regarding the needs of women veterans with respect to health care, rehabilitation, compensation, outreach, and other programs and activities administered by the VA designed to meet such needs. The Committee will make recommendations to the Secretary regarding such programs and activities.

On October 28, the agenda will include overviews of the Veterans Health Administration, the Veterans Benefits Administration, the National Cemetery Administration, an update on the 2008 Advisory Committee on Women Veterans Report, and an update on the activities conducted by the Center for Women Veterans. On October 29, the agenda will include discussion on legislation related to women veterans, women veterans' health, updates to recommendations made in the 2008 Advisory Committee on Women Veterans Report, updates from the Department of Labor, and VA's suicide prevention initiatives. On October 30, the agenda will include updates on rural health, military sexual assault prevention and response programs, and VA's homeless programs. The agenda is tentative and is subject to change.

Any member of the public wishing to attend should contact Ms. Shannon L. Middleton, at the Department of Veterans Affairs, Center for Women Veterans (00W), 810 Vermont Avenue, NW., Washington, DC 20420. Ms. Middleton may be contacted either by phone at (202) 461-6193, fax at (202) 273-7092, or e-mail at 00W@mail.va.gov. Interested persons may attend, appear before, or file statements with the Committee. Written statements must be filed before the meeting, or within 10 days after the meeting.

Dated: September 24, 2008.
By Direction of the Secretary.
E. Phillip Riggin,
Committee Management Officer.

[FR Doc. E8-22910 Filed 9-29-08; 8:45 am]

BILLING CODE 8320-01-P